DEPARTMENT OF HEALTH AND HUMAN SERVICES

National Institutes of Health

Center for Scientific Review; Amended Notice of Meeting

Notice is hereby given of a change in the meeting of the Cellular and Molecular Biology of Glia Study Section, October 21, 2013, 08:00 a.m. to October 21, 2013, 06:00 p.m., Doubletree Hotel Bethesda, (Formerly Holiday Inn Select), 8120 Wisconsin Avenue, Bethesda, MD 20814 which was published in the Federal Register on September 26, 2013, 78 FR 187 Pgs. 59361-59362.

The meeting will be held at the Embassy Suites at the Chevy Chase Pavilion, 4300 Military Road, Washington, DC 20015. The meeting will start November 14, 2013 at 8:00 a.m. and end November 14, 2013 at 6:30 p.m. The meeting is closed to the public.

Dated: October 31, 2013.
Carolyn A. Baum,
Program Analyst, Office of Federal Advisory Committee Policy.

[FR Doc. 2013-26531 Filed 11-5-13; 8:45 am]

BILLING CODE 4140-01-P